DEPARTMENT OF ENERGY

Federal Energy Regulatory Commission

Combined Notice of Filings #1

Take notice that the Commission received the following electric corporate filings:

Docket Numbers: EC12-90-000.

Applicants: Duke Energy Ohio, Inc., Cinergy Corp., Duke Energy Retail Sales, LLC, Duke Energy Commercial Enterprises, Inc., Duke Energy Hanging Rock II, LLC, Duke Energy Lee II, LLC, Duke Energy Fayette II, LLC, Duke Energy Washington II, LLC, Duke Energy Commercial Asset Management, CinCap V LLC, Duke Energy Piketon, LLC, NEWCO, LLC, Duke Energy Miami Fort, LLC, Duke Energy Beckjord, LLC, Duke Energy Stuart, LLC, Duke Energy Killen, LLC, Duke Energy Conesville, LLC, Duke Energy Zimmer, LLC, Duke Energy Dick's Creek, LLC.

Description: Amendment to Application for Authorization for Disposition of Jurisdictional Facilities under Section 203 of the Federal Power Act of Cinergy Corp., et al.

Filed Date: 6/22/12.

Accession Number: 20120622-5041.

Comments Due: 5 p.m. ET 7/2/12.

Take notice that the Commission received the following electric rate filings:

Docket Numbers: ER12-2092-000.

Applicants: Arizona Public Service Company.

Description: ANPP Interconnection Agreement with Arlington Valley Solar Energy I to be effective 5/24/2012.

Filed Date: 6/22/12.

Accession Number: 20120622-5119.

Comments Due: 5 p.m. ET 7/13/12.

Docket Numbers: ER12-2093-000.

Applicants: Southern California Edison Company.

Description: Amendment to IFA and Distribution Service Agreement with Berry Petroleum Co. to be effective 6/1/2012.

Filed Date: 6/22/12.

Accession Number: 20120622-5135.

Comments Due: 5 p.m. ET 7/13/12.

Docket Numbers: ER12-2094-000.

Applicants: PacifiCorp.

Description: UAMPS ARTSOA Rev 2 to be effective 6/1/2012.

Filed Date: 6/22/12.

Accession Number: 20120622-5144.

Comments Due: 5 p.m. ET 7/13/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 25, 2012.
Nathaniel J. Davis, Sr.,
Deputy Secretary.

[FR Doc. 2012-16093 Filed 6-29-12; 8:45 am]

BILLING CODE 6717-01-P